POSTAL REGULATORY COMMISSION

[Docket Nos. MC2009-40 and CP2009-61; Order No. 288]

Parcel Select & Parcel Return Service

AGENCY: Postal Regulatory Commission.

ACTION: Notice.

SUMMARY: The Commission is noticing a recently-filed Postal Service request to add Parcel Select & Parcel Return Service Contract 2 to the Competitive Product List. The Postal Service has also filed a related contract. This notice addresses procedural steps associated with these filings.

DATES: Comments are due September 2, 2009.

ADDRESSES: Submit comments electronically via the Commission's Filing Online system at http://www.prc.gov.

FOR FURTHER INFORMATION CONTACT: Stephen L. Sharfman, General Counsel, at 202-789-6829 or stephen.sharfman@prc.gov.

SUPPLEMENTARY INFORMATION:

I. Introduction

II. Notice of Filings

III. Ordering Paragraphs

I. Introduction

On August 21, 2009, the Postal Service filed a formal request pursuant to 39 U.S.C. 3642 and 39 CFR 3020.30 et seq. to add Parcel Select & Parcel Return Service Contract 2 to the Competitive Product List.¹ The Postal Service asserts that Parcel Select & Parcel Return Service Contract 2 is a competitive product “not of general applicability” within the meaning of 39 U.S.C. 3632(b)(3). The Request has been assigned Docket No. MC2009-40.

¹ Request of the United States Postal Service to Add Parcel Select & Parcel Return Service Contract 2 to Competitive Product List and Notice of Establishment of Rates and Class Not of General Applicability, August 21, 2009 (Request).

The Postal Service contemporaneously filed a contract related to the proposed new product pursuant to 39 U.S.C. 3632(b)(3) and 39 CFR 3015.5. The contract has been assigned Docket No. CP2009-61.

Request. The Request includes (1) a redacted version of the Governors' Decision authorizing the new product; (2) a redacted version of the contract; (3) requested changes in the Mail Classification Schedule product list; (4) a Statement of Supporting Justification as required by 39 CFR 3020.32; (5) a certification of compliance with 39 U.S.C. 3633(a); and (6) an application for the non-public treatment of materials.² Substantively, the Request seeks to add Parcel Select & Parcel Return Service Contract 2 to the Competitive Product List. Id. at 1-2.

² Attachment A to the Request is a redacted version of the Governors' Decision authorizing the new product; Attachment B to the Request is the redacted version of the contract. Attachment C shows the requested changes to the Mail Classification Schedule product list. Attachment D provides a statement of supporting justification for this Request. Attachment E provides the certification of compliance with 39 U.S.C. 3633(a). Attachment F is the Postal Service's Application for the treatment of Non-Public materials.

II. Notice of Filings

The Commission establishes Docket Nos. MC2009-40 and CP2009-61 for consideration of the Request pertaining to the proposed Parcel Select & Parcel Return Service Contract 2 product and the related contract, respectively. In keeping with practice, these dockets are addressed on a consolidated basis for purposes of this Order; however, future filings should be made in the specific docket to which issues being addressed pertain.

Interested persons may submit comments on whether the Postal Service's filings in the captioned dockets are consistent with the policies of 39 U.S.C. 3632, 3633, or 3642 and 39 CFR part 3015 and 39 CFR 3020 subpart B. Comments are due no later than September 2, 2009. The public portions of these filings can be accessed via the Commission's Web site (http://www.prc.gov).

The Commission appoints Paul L. Harrington to serve as Public Representative in these dockets.

III. Supplemental Information

Pursuant to 39 CFR 3015.6, the Commission requests the Postal Service to provide the following supplemental information by August 31, 2009:

1. In the Postal Service's Application for Non-Public Treatment of Materials, section (3), the Postal Service states: “However, in a limited number of cases, narrative passages or notes were redacted in their entirety due to the practical difficulties of redacting particular words or numbers within the text as presented in a spreadsheet format.” Request, Attachment F, at 3. In accordance with 39 CFR 3007.10(c), please indicate the number of lines or number of pages removed at each redaction; and

2. The cost coverage in the Governors' Decision differs from the calculated cost coverage in the accompanying spreadsheets filed under seal. Please explain this discrepancy.

IV. Ordering Paragraphs

It is ordered:

1. The Commission establishes Docket Nos. MC2009-40 and CP2009-61 for consideration of the matter raised in each docket.

2. Pursuant to 39 U.S.C. 505, Paul L. Harrington is appointed to serve as officer of the Commission (Public Representative) to represent the interests of the general public in these proceedings.

3. The Postal Service is to provide the information requested in section III of this Order no later than August 31, 2009.

4. Comments by interested persons in these proceedings are due no later than September 2, 2009.

5. The Secretary shall arrange for publication of this order in the Federal Register.

Issued: August 25, 2009.
By the Commission.
Judith M. Grady,
Acting Secretary.

[FR Doc. E9-20934 Filed 8-28-09; 8:45 am]

BILLING CODE 7710-FW-P